DEPARTMENT OF ENERGY

Western Area Power Administration

Record of Decision for the South Mountain Freeway (Loop 202) (DOE-EIS 0417)

AGENCY: Western Area Power Administration, DOE.

ACTION: Record of decision.

SUMMARY: The Federal Highway Administration (FHWA) prepared an Environmental Impact Statement (EIS) (DOE/EIS-0417) for the construction of the proposed South Mountain Freeway (Loop 202) (Project), from the east-west alignment of Interstate 10 (Papago Freeway) to north-south alignment of Interstate 10 (Maricopa Freeway). The Project is located in the Greater Metropolitan Phoenix Area, southwest of the City of Phoenix in Maricopa County, Arizona. Western Area Power Administration (Western) was a cooperating agency in FHWA's EIS process.

The FHWA selected a combination of the alternatives W59 and E1 as described in the EIS as their selected alternative in their Record of Decision (ROD). FHWA's selected alternative requires Western to issue letter agreements for two crossings of its transmission rights-of-way, and to modify its transmission system and facilities at these crossing locations to accommodate the construction of the Project.

FOR FURTHER INFORMATION CONTACT: For further information regarding Western's role in the project, contact: Ms. Linda Marianito, Environmental Manager, Desert Southwest Region, Western Area Power Administration, 615 S. 43rd Avenue, Phoenix, AZ 85009, Telephone: (602) 605-2524, Email: Marianito@wapa.gov.

The EIS and related documents may be viewed or downloaded at following Web site: http://azdot.gov/projects/phoenix-metro-area/loop-202-south-mountain-freeway/final-eis.

For general information on DOE's National Environmental Policy Act (NEPA) review process, please contact: Carol M. Borgstrom, Director, Office of NEPA Policy and Compliance, GC-54, U.S. Department of Energy, Washington, DC 20585, Telephone (202) 586-4600 or (800) 472-2756, Email: askNEPA@hq.doe.gov.

SUPPLEMENTARY INFORMATION: FHWA was the lead Federal agency for the Project EIS (FHWA-AZ-EIS-14-0-F; April 20, 2001; 77 FR 20345). Western was a cooperating agency for the Project EIS. After an independent review of the Final Project EIS, Western concluded that its needs are satisfied and with this notice is adopting the Project EIS for its participation in the Project. The FHWA signed its ROD on the Project on March 10, 2015, and selected a combination of the alternatives W59 and E1 for its selected alternative.

Western's Action

The Project EIS addresses the effects of the Project, including modification of Western's transmission system. There are two locations on the selected Project alignment that require Western to issue license agreements to Arizona Department of Transportation (ADOT) for two crossings of Western's transmission rights-of-way: The Lone Butte to Phoenix double-circuit 230-kilovolt (kV) transmission line east of 51st Avenue, and the Liberty to Phoenix double-circuit 230-kV transmission line one-half mile north of Broadway Road.

Western will modify its Lone Butte to Phoenix double-circuit 230-kV transmission line east of 51st Avenue to accommodate the Project construction. The modification includes relocation of two spans to the east. Western will work with ADOT to pursue the additional easement necessary for the proposed relocation.

Western will also modify the Liberty to Phoenix double-circuit 230-kV transmission line at the crossing one-half mile north of Broadway Road. The lines will need to be raised to clear the proposed elevated freeway and potential noise walls.

Cultural Resources

Pursuant to Section 106 of the National Historic Preservation Act, the Arizona State Historic Preservation Officer (SHPO) has been involved and will continue to be involved in the cultural resources related to the proposed Project. The SHPO concurred with the adequacy of the records search and reports. ADOT, on behalf of FHWA and in conjunction with tribal and local authorities, Western, and the U.S. Bureau of Indian Affairs executed a final Programmatic Agreement (PA) describing the proper treatment and management of affected cultural resources. Western signed the PA on October 18, 2010.

Endangered Species Act

Pursuant to Section 7 of the Endangered Species Act, consultation was completed with the USFWS. Two candidate species, the Sonoran desert tortoise, and the Tucson shovel-nosed snake, have been documented in the Eastern Section of the Project area and suitable habitat for these species is present within Western's action area. Subsequent to completion of the Biological Evaluation for the project, the Tucson shovel-nosed snake was removed from the candidate species list. No other Federally-listed, threatened, or endangered species have been documented in the proposed rights-of-way. There is no critical habitat designated in Western's action area. In addition, Western will comply with recommendations found in the Biological Evaluation, South Mountain Transportation Corridor (July 2014), and in recommendations outlined in the USFWS letter dated June 10, 2014. Considering this and Western's limited action in the Project, Western's proposed modifications to its transmission system and facilities is unlikely to affect Sonoran desert tortoises and Tucson shovel-nosed snakes.

Alternatives Considered

Numerous alternatives were examined during the early EIS process including: Modal alternatives, corridor and alignment alternatives, configuration alternatives, and design alternatives. As the EIS and public and agency scoping process progressed, many of these alternatives were eliminated and six broadly described build alternatives were developed (W59, W71, W101-east, W101-central, W101-west, E1) as well as a no action alternative. These seven alternatives were carried forward for further analysis.

FHWA ultimately selected a combination of alternatives W59 and E1 as their preferred alternative. The no action alternative assumed that the Project would not be constructed and no transmission structures or lines would need to be modified. FHWA did not select the no action alternative since it did not meet the purpose and need.

Mitigation

Western will adhere to its Construction Standard 13 “Environmental Quality Protection” during its transmission line modification activities. Long-term operations of the transmission line will follow Western's standard operating procedures and will not be affected by this action. A Mitigation Action Plan is not required for Western's proposed action.

Decision

Western's decision is to adopt the EIS for its participation in the Project and to modify its transmission system as described above in support of FHWA's decision to construct their Project.¹ This ROD was prepared pursuant to the requirements of the Council on Environmental Quality Regulations for Implementing the Procedural Provisions of the NEPA (40 CFR parts 1500-1508) and DOE's NEPA Implementing Procedures (10 CFR part 1021).

¹ “Restatement of Delegations of Environment Impact Statement Authorities” from Sean A. Lev, Acting General Counsel, to Timothy J. Meeks dated November 16, 2011.

Dated: May 26, 2015.
Mark A. Gabriel,
Administrator.

[FR Doc. 2015-13765 Filed 6-4-15; 8:45 am]

BILLING CODE 6450-01-P